DEPARTMENT OF TRANSPORTATION

Federal Aviation Administration

14 CFR Part 71

[Docket No. FAA-2010-0615; Airspace Docket No. 10-ANM-5]

Modification of Class E Airspace; Arco, ID

AGENCY: Federal Aviation Administration (FAA), DOT.

ACTION: Final rule.

SUMMARY: This action will amend Class E airspace at Arco, ID. Decommissioning of the Arco-Butte County Non-Directional Beacon (NDB) at Arco-Butte County Airport has made this action necessary for the safety and management of Instrument Flight Rules (IFR) operations at the airport. This action also would adjust the geographic coordinates of the airport.

DATES: Effective date, 0901 UTC, January 13, 2011. The Director of the Federal Register approves this incorporation by reference action under 1 CFR Part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On July 19, 2010, the FAA published in the Federal Register a notice of proposed rulemaking to amend controlled airspace at Arco, ID (75 FR 41773). Interested parties were invited to participate in this rulemaking effort by submitting written comments on the proposal to the FAA. No comments were received. Subsequent to publication, the FAA found the geographic coordinates of the airport needed to be adjusted. This action makes the adjustment. With the exception of editorial changes, and the changes described above, this rule is the same as that proposed in the NPRM.

Class E airspace designations are published in paragraph 6005 of FAA Order 7400.9U dated August 18, 2010, and effective September 15, 2010, which is incorporated by reference in 14 CFR Part 71.1. The Class E airspace designations listed in this document will be published subsequently in that Order.

The Rule

This action amends Title 14 Code of Federal Regulations (14 CFR) Part 71 by amending Class E extending upward from 700 feet above the surface, at Arco-Butte County Airport, Arco, ID. Decommissioning of the Arco-Butte County NDB has made this action necessary for the safety and management of IFR operations at the airport. The geographic coordinates of the airport also will be adjusted to coincide with the FAA's National Aeronautical Navigation Services.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Arco-Butte County Airport, Arco, ID.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR Part 71.1 of the Federal Aviation Administration Order 7400.9U, Airspace Designations and Reporting Points, dated August 18, 2010, and effective September 15, 2010 is amended as follows:

Paragraph 6005 Class E airspace areas extending upward from 700 feet or more above the surface of the earth.

* * * * *

ANM ID E5 Arco, ID [Amended]

Arco-Butte County Airport, Arco, ID

(Lat. 43°36′13″ N., long. 113°20′03″ W.)

Pocatello VORTAC

(Lat. 42°52′13″ N., long. 112°39′08″ W.)

DuBois VORTAC

(Lat. 44°05′20″ N., long. 112°12′34″ W.)

Burley VOR/DME

(Lat. 42°34′49″ N., long. 113°51′57″ W.)

That airspace extending from 700 feet above the surface within a 7-mile radius of the Arco-Butte County Airport; that airspace extending upward from 1,200 feet above the surface bounded by a line beginning at 68.5 miles northwest of the Pocatello VORTAC on V-269, thence southeast along V-269 to 53 miles northwest of the Pocatello VORTAC on V-269, thence to 29 miles south of the DuBois VORTAC on V-257, thence south along V-257 to V-365, thence southeast along V-365 to the Burley VOR/DME, thence northwest along V-231 to 29 miles northwest of the Burley VOR/DME on V-231, to the point of beginning.

Issued in Seattle, Washington, on September 23, 2010.
Lori Andriesen,
Acting Manager, Operations Support Group, Western Service Center.

[FR Doc. 2010-24801 Filed 10-5-10; 8:45 am]

BILLING CODE 4910-13-P